DEPARTMENT OF ENERGY

Federal Energy Regulatory Commission

[Project No. 3109-049]

Eugene Water and Electric Board; Notice of Application for Surrender of License and Soliciting Comments, Motions To Intervene, and Protests

Take notice that the following application has been filed with the Commission and is available for public inspection:

a. Application Type: Surrender of License.

b. Project No.: P-3109-049.

c. Date Filed: December 14, 2011.

d. Applicant: Eugene Water and Electric Board.

e. Name of Project: Blue River Project.

f. Location: The proposed project would be located at the U.S. Army Corps of Engineers' Blue River Dam on the Blue River, a tributary of the McKenzie River, in Lane County, Oregon.

g. Filed Pursuant to: Federal Power Act, 16 U.S.C. 791a-825r.

h. Applicant Contact: Suzanne P. Adkins, EWEB FERC License Manager, 500 East 45th Avenue, P.O. Box 10148, Eugene, Oregon 97440-2148; telephone (541) 344-6311, ext. 3435.

i. FERC Contact: Diane M. Murray, telephone (202) 502-8835 and email: diane.murray@ferc.gov.

j. Deadline for filing comments, motions to intervene, and protests: February 27, 2012. Comments, motions to intervene, and protests may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street NE., Washington, DC 20426. For more information on how to submit these types of filings, please go to the Commission's Web site located at http://www.ferc.gov/filing-comments.asp.

k. Description of Request: The licensee filed an application to surrender its license for the unconstructed Blue River Hydroelectric Project. The Licensee started construction on October 28, 1993, by signing a contract for the manufacture of generating units and making its first and only payment of $7,048.65 to Voith Hydro, Inc. However, no ground disturbing activities have occurred at the project site.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-(866) 208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must (1) bear in all capital letters the title “COMMENTS”, “PROTEST”, or “MOTION TO INTERVENE”, as applicable, and the Project Number of the particular application to which the filing refers.

p. Agency Comments—Federal, state, and local agencies are invited to file comments on the described application. A copy of the application may be obtained by agencies directly from the Applicant. If an agency does not file comments within the time specified for filing comments, it will be presumed to have no comments. One copy of an agency's comments must also be sent to the Applicant's representatives.

Dated: January 24, 2012.
Kimberly D. Bose,
Secretary.

[FR Doc. 2012-2005 Filed 1-30-12; 8:45 am]

BILLING CODE 6717-01-P